DEPARTMENT OF VETERANS AFFAIRS

Special Medical Advisory Group; Notice of Meeting

The Department of Veterans Affairs (VA) gives notice under the Federal Advisory Committee Act, 5 U.S.C. App. 2 that the Special Medical Advisory Group (SMAG) will meet via teleconference on August 25, 2015, from 9 a.m. to 11 a.m. Eastern Time. The meeting is open to the public. Call-in access is 1-800-767-1750; access code 07245. Members of the public may join the virtual conference call to listen to the discussion; there will be no participation in the discussion by members of the public. Participants will be asked to identify themselves to gain access to the meeting.

The purpose of the SMAG is to advise the Secretary of Veterans Affairs and the Under Secretary for Health on the care and treatment of disabled Veterans, and other matters pertinent to the Department's Veterans Health Administration (VHA).

The agenda for the August 25, 2015, meeting will include the review of the minutes and key points from the May 13, 2015, SMAG meeting and further discussion of the key elements of the VHA Blueprint for Excellence.

Although no time will be allocated for receiving oral presentations from the public, members of the public may submit written statements for review by the Committee to Barbara Hyduke, Department of Veterans Affairs, Office of Patient Care Services (10P4), Veterans Health Administration, 810 Vermont Avenue NW., Washington, DC 20420, or by email at barbara.hyduke@va.gov.

If you plan to listen to the meeting, please call in at least 15 minutes the start of the meeting; callers will not be given access after 9:00 a.m. Any member of the public wishing to attend the meeting or seeking additional information should contact Ms. Hyduke at (202) 461-7800 or by the email address noted above.

Dated: July 23, 2015.
Rebecca Schiller,
Advisory Committee Management Officer.

[FR Doc. 2015-18447 Filed 7-27-15; 8:45 am]

BILLING CODE 8320-01-P